DEPARTMENT OF ENERGY

Federal Energy Regulatory Commission

Notice of Commission Staff Attendance

The Federal Energy Regulatory Commission hereby gives notice that members of the Commission's staff may attend the following meeting related to the transmission planning activities of ISO New England Inc., New York Independent System Operator, Inc., and PJM Interconnection, L.L.C.:

Joint Inter-Regional Planning Task Force/Electric System Planning Working Group December 20, 2012, 11:00 a.m. to 4:00 p.m., Local Time.

The above-referenced meeting is open to stakeholders and will be held at:

NYISO's offices, Rensselaer, NY.

Further information may be found at www.nyiso.com.

The discussions at the meetings described above may address matters at issue in the following proceedings:

Docket No. ER08-1281, New York Independent System Operator, Inc.

For more information, contact James Eason, Office of Energy Market Regulation, Federal Energy Regulatory Commission at (202) 502-8622 or James.Eason@ferc.gov.

Dated: December 17, 2012.
Kimberly D. Bose,
Secretary.

[FR Doc. 2012-30771 Filed 12-20-12; 8:45 am]

BILLING CODE 6717-01-P